DEPARTMENT OF TRANSPORTATION

Federal Aviation Administration

14 CFR Part 39

[Docket No. FAA-2009-0912; Directorate Identifier 2009-NM-047-AD]

RIN 2120-AA64

Airworthiness Directives; BAE Systems (Operations) Limited Model BAe 146 and Avro 146-RJ Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: Reports have been received of finding corrosion at the Frame 29 wing-to-fuselage attachment lug plate joint. This condition, if not detected and corrected, could result in a degradation of the structural integrity of Frame 29 and the wing-to-fuselage attachment.

The unsafe condition is degradation of the structural integrity of Frame 29 and the wing-to-fuselage attachment, which could result in loss of control of the airplane. The proposed AD would require actions that are intended to address the unsafe condition described in the MCAI.

DATES: We must receive comments on this proposed AD by December 3, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact BAE Systems Regional Aircraft, 13850 McLearen Road, Herndon, Virginia 20171; telephone 703-736-1080; e-mail raebusiness@baesystems.com; Internet http://www.baesystems.com/Businesses/RegionalAircraft/index.htm. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2009-0912; Directorate Identifier 2009-NM-047-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0046, dated March 2, 2009 (referred to after this as “the MCAI”), to correct an unsafe condition for the specified products. The MCAI states:

Reports have been received of finding corrosion at the Frame 29 wing-to-fuselage attachment lug plate joint. This condition, if not detected and corrected, could result in a degradation of the structural integrity of Frame 29 and the wing-to-fuselage attachment.

The current method of inspecting the Frame 29 wing-to-fuselage attachment lug plate joint for corrosion is not considered adequate for finding corrosion in this particular area.

To address this concern, BAE Systems (Operations) Limited has published Inspection Service Bulletin ISB.53-213, which replaces current Maintenance Review Board Report Structurally Significant Items Task 53-20-103 (equal to Maintenance Planning Document Tasks 532003-DVI-10000-1, 532003-DVI-10000-2 and 532003-DVI-10000-3) and Corrosion Prevention and Control Programme Task C53-230-02-01.

For the reason described above, this AD requires [detailed] repetitive inspections of the Frame 29 wing-to-fuselage attachment lug plate joint [for discrepancies, which are corrosion and fatigue cracking of the bolts and fastener bores; degraded, cracked, missing, and poor condition sealant] and repair(s) [which include replacing bolts, contacting BAE Systems for repair instructions and doing the repair, and re-applying sealant], as necessary.

The unsafe condition is degradation of the structural integrity of Frame 29 and the wing-to-fuselage attachment, which could result in loss of control of the airplane. You may obtain further information by examining the MCAI in the AD docket.

Relevant Service Information

BAE Systems (Operations) Limited has issued Inspection Service Bulletin ISB.53-213, dated May 21, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a note within the proposed AD.

Costs of Compliance

Based on the service information, we estimate that this proposed AD would affect about 1 product of U.S. registry. We also estimate that it would take about 12 work-hours per product to comply with the basic requirements of this proposed AD. The average labor rate is $80 per work-hour. Based on these figures, we estimate the cost of the proposed AD on U.S. operators to be $960.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

BAE Systems (Operations) Limited (Formerly British Aerospace Regional Aircraft): Docket No. FAA-2009-0912; Directorate Identifier 2009-NM-047-AD.

Comments Due Date

(a) We must receive comments by December 3, 2009.

Affected ADs

(b) None.

Applicability

(c) This AD applies to BAE Systems (Operations) Limited Model BAe 146-100A, -200A, and -300A series airplanes, and BAE Systems (Operations) Limited Model Avro 146-RJ70A, 146-RJ85A, and 146-RJ100A airplanes, certificated in any category, all serial numbers.

Subject

(d) Air Transport Association (ATA) of America Code 53: Fuselage.

Reason

(e) The mandatory continuing airworthiness information (MCAI) states:

Reports have been received of finding corrosion at the Frame 29 wing-to-fuselage attachment lug plate joint. This condition, if not detected and corrected, could result in a degradation of the structural integrity of Frame 29 and the wing-to-fuselage attachment.

The current method of inspecting the Frame 29 wing-to-fuselage attachment lug plate joint for corrosion is not considered adequate for finding corrosion in this particular area.

To address this concern, BAE Systems (Operations) Limited has published Inspection Service Bulletin ISB.53-213, which replaces current Maintenance Review Board Report Structurally Significant Items Task 53-20-103 (equal to Maintenance Planning Document Tasks 532003-DVI-10000-1, 532003-DVI-10000-2 and 532003-DVI-10000-3) and Corrosion Prevention and Control Programme Task C53-230-02-01.

For the reason described above, this AD requires repetitive [detailed] inspections of the Frame 29 wing-to-fuselage attachment lug plate joint [for discrepancies, which are corrosion and fatigue cracking of the bolts and fastener bores; degraded, cracked, missing, and poor condition sealant] and repair(s) [which include replacing bolts, contacting BAE Systems for repair instructions and doing the repair and re-applying sealant], as necessary.

The unsafe condition is degradation of the structural integrity of Frame 29 and the wing-to-fuselage attachment, which could result in loss of control of the airplane.

Actions and Compliance

(f) Unless already done, do the following actions.

(1) Within 24 months after the effective date of this AD, do a detailed inspection for discrepancies of the frame 29 wing-to-fuselage attachment lug plate joint, in accordance with the Accomplishment Instructions of BAE Systems (Operations) Limited Inspection Service Bulletin ISB.53-213, dated May 21, 2008.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(2) Repeat the inspection required by paragraph (f)(1) of this AD thereafter at intervals not to exceed 48 months.

(3) During any inspection required by paragraph (f)(1) or (f)(2) of this AD, if it is not possible to replace a removed bolt with another bolt having the same part number as a replacement item, before further flight, contact BAE Systems to replace the removed bolt with an alternative bolt and do the approved BAE Systems repair.

(4) If during any inspection required by paragraph (f)(1) or (f)(2) of this AD, any discrepancy is found, before further flight, repair in accordance with paragraph 2.C. of the Accomplishment Instructions of BAE Systems (Operations) Limited Inspection Service Bulletin ISB.53-213, dated May 21, 2008.

(5) Although BAE Systems (Operations) Limited Inspection Service Bulletin ISB.53-213, dated May 21, 2008, specifies to submit certain information to the manufacturer, this AD does not include that requirement.

FAA AD Differences

Note 2: This AD differs from the MCAI and/or service information as follows. Although BAE Systems (Operations) Limited Inspection Service Bulletin ISB.53-213, dated May 21, 2008, and European Aviation Safety Agency AD 2009-0046, dated March 2, 2009, specify to submit certain information to the manufacturer, this AD does not include that requirement.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to Attn: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI European Aviation Safety Agency Airworthiness Directive 2009-0046, dated March 2, 2009; and BAE Systems (Operations) Limited Inspection Service Bulletin ISB.53-213, dated May 21, 2008; for related information.

Issued in Renton, Washington, on October 5, 2009.
Ali Bahrami,
Manager, Transport Airplane Directorate, Aircraft Certification Service.

[FR Doc. E9-24985 Filed 10-16-09; 8:45 am]

BILLING CODE 4910-13-P